DEPARTMENT OF COMMERCE

International Trade Administration

[A-201-843]

Prestressed Concrete Steel Rail Tie Wire From Mexico: Final Results of Antidumping Duty Administrative Review; 2013-2015

AGENCY: Enforcement and Compliance, International Trade Administration, Department of Commerce.

SUMMARY: On March 9, 2016, the Department of Commerce (the Department) published the preliminary results of the administrative review of the antidumping duty (AD) order on prestressed concrete steel rail tie wire (PC tie wire) from Mexico.¹ The period of review (POR) is December 12, 2013, through May 31, 2015. The review covers one producer/exporter of the subject merchandise, Aceros Camesa, S.A. de C.V. (Camesa). We gave interested parties an opportunity to comment on the Preliminary Results. After considering the comments received, we made no changes to our preliminary margin calculations, and we continue to find that Camesa made sales of subject merchandise to the United States at prices below normal value. Camesa's final dumping margin is listed below in the section entitled “Final Results of the Review.”

¹ See Prestressed Concrete Steel Rail Tie Wire From Mexico: Preliminary Results of the Antidumping Duty Administrative Review; 2013-2105, 81 FR 12466 (March 9, 2016) (Preliminary Results).

DATES: Effective Date: June 23, 2016.

FOR FURTHER INFORMATION CONTACT: Rebecca Trainor or Aqmar Rahman, AD/CVD Operations, Office II, Enforcement and Compliance, International Trade Administration, U.S. Department of Commerce, 14th Street and Constitution Avenue NW., Washington, DC 20230; telephone (202) 482-4007 and (202) 482-0768, respectively.

SUPPLEMENTARY INFORMATION:

Background

For a complete description of the events following the publication of the Preliminary Results, see the Issues and Decision Memorandum.² The Issues and Decision Memorandum is a public document and is on file electronically via Enforcement and Compliance's AD and Countervailing Duty (CVD) Centralized Electronic Service System (ACCESS). ACCESS is available to registered users at http://access.trade.gov and in the Central Records Unit, Room B8024 of the main Department of Commerce building. In addition, a complete version of the Issues and Decision Memorandum can be accessed directly at http://enforcement.trade.gov/frn/index.html. The signed Issues and Decision Memorandum and the electronic version of the Issues and Decision Memorandum are identical in content.

² See memorandum to Paul Piquado, Assistant Secretary for Enforcement and Compliance, from Christian Marsh, Deputy Assistant Secretary for Antidumping and Countervailing Duty Operations, “Issues and Decision Memorandum for the Final Results of the Antidumping Duty Administrative Review of Prestressed Concrete Steel Rail Tie Wire from Mexico; 2013-2015,” dated concurrently with and adopted by this notice (Issues and Decision Memorandum).

The Department conducted this administrative review in accordance with section 751 of the Tariff Act of 1930, as amended (the Act).

Scope of the Order

The product covered by this order is prestressed concrete steel rail tie wire. This product is classified under the Harmonized Tariff Schedule of the United States (HTSUS) subheading 7217.10.8045, but may also be classified under subheadings 7217.10.7000, 7217.10.8025, 7217.10.8030, 7217.10.8090, 7217.10.9000, 7229.90.1000, 7229.90.5016, 7229.90.5031, 7229.90.5051, 7229.90.9000, and 7312.10.3012. Although the HTSUS subheadings are provided for convenience and customs purposes, the written description of the scope of the order is dispositive.³

³ A full description of the scope of the order is contained in the Issues and Decision Memorandum.

Analysis of Comments Received

All issues raised in the case and rebuttal briefs are addressed in the Issues and Decision Memorandum. A list of the issues which parties raised and to which we respond in the Issues and Decision Memorandum is attached to this notice as Appendix I.

Final Results of the Review

As a result of this review, the Department determines that a weighted-average dumping margin of 6.33 percent exists for Camesa for the period December 12, 2013, through May 31, 2015.

Assessment Rates

The Department determines, and U.S. Customs and Border Protection (CBP) shall assess, antidumping duties on all appropriate entries covered by this review.⁴ We calculated an importer-specific ad valorem duty assessment rate based on the ratio of the total amount of antidumping duties calculated for the examined sales to the total entered value of the examined sales to that importer. We will instruct CBP to assess antidumping duties on all appropriate entries covered by this review if the importer-specific assessment rate is above de minimis.

⁴ See 19 CFR 351.212(b)(1).

We intend to issue instructions to CBP 41 days after the date of publication of the final results of this review.

Cash Deposit Requirements

The following cash deposit requirements will be effective for all shipments of the subject merchandise entered, or withdrawn from warehouse, for consumption on or after the publication date of the final results of this administrative review, as provided by section 751(a)(2)(C) of the Act: (1) The cash deposit rate for Camesa will be the rate established in these final results; (2) for previously reviewed or investigated companies not participating in this review, the cash deposit rate will continue to be the company-specific rate published for the most recent period; (3) if the exporter is not a firm covered in this review, a previous review, or the original less-than-fair-value (LTFV) investigation, but the manufacturer is, the cash deposit rate will be the rate established for the most recent period for the manufacturer of the merchandise; and (4) the cash deposit rate for all other manufacturers or exporters will continue to be 9.99 percent, the all-others rate made effective by the LTFV investigation. These deposit requirements shall remain in effect until further notice.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are published in accordance with sections 751(a)(1) and 777(i)(1) of the Act and 19 CFR 351.221.

Dated: June 15, 2016.
Paul Piquado,
Assistant Secretary for Enforcement and Compliance.

Appendix

List of Topics Discussed in the Issues and Decision Memorandum

I. Summary

II. Background

III. Margin Calculations

IV. Scope of the Order

V. Discussion of the Issues

A. Clerical Error in the Draft Liquidation Instructions

B. Camesa's General and Administrative (G&A) Expense Offset

VI. Recommendation

[FR Doc. 2016-14913 Filed 6-22-16; 8:45 am]

BILLING CODE 3510-DS-P